DEPARTMENT OF THE INTERIOR

Fish and Wildlife Service

[Docket No. FWS-R7-ES-2021-0171; FF07CAMM00-FX-ES111607MRG01]

Marine Mammals; Letters of Authorization To Take Pacific Walruses and Polar Bears in the Beaufort Sea, Alaska, and Northern Sea Otters in Cook Inlet, Alaska, in 2021

AGENCY: Fish and Wildlife Service, Interior.

ACTION: Notice of issuance.

SUMMARY: In accordance with the Marine Mammal Protection Act of 1972, as amended, the U.S. Fish and Wildlife Service issued Letters of Authorization for the nonlethal take of polar bears and Pacific walruses incidental to oil and gas industry exploration, development, and production activities in the Beaufort Sea and the adjacent northern coast of Alaska as well as northern sea otters in Cook Inlet, Alaska, in 2021. This notice announces the lists of Letters of Authorizations issued in calendar year 2021. The Letters of Authorization stipulate conditions and methods that minimize impacts to polar bears, Pacific walruses, and northern sea otters from these activities.

ADDRESSES:

Document availability: You may view this notice as well as the Letters of Authorization at https://www.regulations.gov under Docket No. FWS-R7-ES-2021-0171, or these documents may be requested as described under FOR FURTHER INFORMATION CONTACT.

FOR FURTHER INFORMATION CONTACT: Charles Hamilton, Marine Mammal Management, U.S. Fish and Wildlife Service, MS 341, 1011 East Tudor Road, Anchorage, Alaska 99503, by email at R7mmmRegulatory@fws.gov or by telephone at 1-800-362-5148. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On August 5, 2016, the U.S. Fish and Wildlife Service (Service) published in the Federal Register a final rule (81 FR 52276) establishing regulations that allow us to authorize the nonlethal, incidental, unintentional take of small numbers of polar bears (Ursus maritimus) and Pacific walruses (Odobenus rosmarus divergens) during year-round oil and gas industry exploration, development, and production activities in the Beaufort Sea and adjacent northern coast of Alaska. These incidental take regulations (ITRs) were located in subpart J in part 18 of title 50 of the Code of Federal Regulations (CFR) and were effective through August 5, 2021. The rule prescribed a process under which we issue Letters of Authorization (LOAs) to applicants conducting activities as described under the provisions of the regulations.

On August 5, 2021, the Service published in the Federal Register a new rule (86 FR 42982) that replaced the previous ITRs and expires on August 5, 2026. This new rule similarly prescribes a process under which we issue LOAs to applicants conducting activities as described under the provisions of the regulations.

Each LOA stipulates conditions or methods that are specific to the activity and location. Holders of the LOAs must use methods and conduct activities in a manner that minimizes to the greatest extent practicable adverse impacts on Pacific walruses and polar bears and their habitat, and on the availability of these marine mammals for subsistence purposes. No intentional take or lethal incidental take is authorized under these regulations.

In accordance with section 101(a)(5)(A) of the Marine Mammal Protection Act (MMPA; 16 U.S.C. 1361 et seq.) and our regulations at 50 CFR part 18, subpart J, in 2021, we issued LOAs to the companies in the Beaufort Sea and adjacent northern coast of Alaska shown in table 1. The Service notes that in August 2021 we issued the following LOAs (21-01, 21-02, 21-03, 21-04, 21-05, 21-06, 21-07, 21-08). After issuance of the LOAs, the Service determined that they should be revised to better reflect requirements pertaining to monitoring potential polar bear denning activity; therefore, the Service issued corrected LOAs in October 2021 reflecting this revision. Further, the Service has received requests from certain LOA holders that their issued LOA be amended to reflect new activities or a change in existing activities. The Service includes in the table below all original LOAs, corrected LOAs, and amended LOAs issued in 2021.

Table 1—Letters of Authorization Issued for Oil and Gas Development Activities in the Beaufort Sea, Alaska, in 2021
Company | Project | LOA No.
Conoco Philips Alaska | Oil and gas exploration and development activities of the Kuparuk and Alpine oilfields and associated units. * This LOA was issued under the 2016-2021 ITRs | 16-13 [2nd Amendment].
Conoco Philips Alaska | Geotechnical survey within the Arctic Slope Regional Corporation mine site and the installation of four survey monuments around the existing Colville Delta No. 4 gravel pad. * This LOA was issued under the 2016-2021 ITRs | 21-02.
Exxon Mobil/Hilcorp | Operational activities in support of the Point Thomson production facility in the Point Thomson Unit (PTU) of the North Slope, Alaska. (Date issued: 08/05/2021) | 21-01.
Exxon Mobil/Hilcorp | Operational activities in support of the Point Thomson production facility in the PTU of the North Slope, Alaska. (Date issued: 10/18/2021) | 21-01 [Corrected].
Exxon Mobil | Operational activities in support of the Point Thomson production facility in the PTU of the North Slope, Alaska. (Date issued: 12/09/2021) | 21-01 [Amended].
Eni U.S. Operating | Oil and gas drilling and production on Spy Island drillsite and Oooguruk drillsite, maintenance and operation of wells and facilities at Oliktok production pad, and operation of facilities at Oooguruk tie-in pad and Nikaitchuq operations center. (Date issued: 08/05/2021) | 21-02.
Eni U.S. Operating | Oil and gas drilling and production on Spy Island drillsite and Oooguruk drillsite, maintenance and operation of wells and facilities at Oliktok production pad, and operation of facilities at Oooguruk tie-in pad and Nikaitchuq operations center. (Date issued: 10/18/2021) | 21-02 [Corrected].
Oil Search Alaska | Constructing and maintaining pads, gravel roads, ice roads, and a boat launch; drilling and associated well-testing; installing temporary facilities, pipelines, and culverts; and conducting field surveys within and adjacent to the Pikka Unit. (Date issued: 8/5/2021) | 21-03.
Oil Search Alaska | Constructing and maintaining pads, gravel roads, ice roads, and a boat launch; drilling and associated well-testing; installing temporary facilities, pipelines, and culverts; and conducting field surveys within and adjacent to the Pikka Unit. (Date issued: 10/18/2021) | 21-03 [Corrected].
Glacier Oil and Gas Corporation | Ice road construction, exploration, development, and oil production activities associated with the Badami oilfield in the North Slope. (Date issued: 08/05/2021) | 21-04.
Glacier Oil and Gas Corporation | Ice road construction, exploration, development, and oil production activities associated with the Badami oilfield in the North Slope. (Date issued: 10/18/2021) | 21-04 [Corrected].
Hilcorp | Oil and gas exploration, production, development and support activities in the Milne Point, Duck Island (Endicott), Northstar Island, and Prudhoe Bay operation areas of the North Slope. (Date issued: 08/05/2021) | 21-05.
Hilcorp | Oil and gas exploration, production, development and support activities in the Milne Point, Duck Island (Endicott), Northstar Island, and Prudhoe Bay operation areas of the North Slope. (Date issued: 10/18/2021) | 21-05 [Corrected].
Conoco Philips Alaska | This field-wide LOA is for activities associated with the operations at the Kuparuk River Unit, Colville River Unit, Greater Mooses Tooth Unit, and surrounding non-unit area. (Date issued: 08/05/2021) | 21-06.
Conoco Philips Alaska | This field-wide LOA is for activities associated with the operations at the Kuparuk River Unit, Colville River Unit, Greater Mooses Tooth Unit, and surrounding non-unit area. (Date issued: 10/18/2021) | 21-06 [Corrected].
Conoco Philips Alaska | Construction on the Greater Mooses Tooth Two Pad/Mooses Tooth 7 within the National Petroleum Reserve—Alaska. (Date issued: 08/05/2021) | 21-07.
Conoco Phillips Alaska | Construction on the Greater Mooses Tooth Two Pad/Mooses Tooth 7 within the National Petroleum Reserve-Alaska. (Date issued: 10/18/2021) | 21-07 [Corrected].
Alyeska Pipeline Service Company | Operation and maintenance of the Trans Alaska Pipeline System, which extends from Pump Station 1 in the Prudhoe Bay oilfield to the Valdez Marine Terminal. (Date issued: 08/18/2021) | 21-08.
Alyeska Pipeline Service Company | Operation and maintenance of the Trans Alaska Pipeline System, which extends from Pump Station 1 in the Prudhoe Bay oilfield to the Valdez Marine Terminal. (Date issued: 10/18/2021) | 21-08 [Corrected].
Conoco Philips | Activities associated with plugging and abandonment of existing exploration wells (Scout 1, Cassin 1, and Cassin 6) in the Bear Tooth Unit and construction and maintenance of ice pads and ice roads. (Date issued: 09/15/2021) | 21-09.
Conoco Philips Alaska | Activities associated with plugging and abandonment of existing exploration wells (Scout 1, Cassin 1, and Cassin 6) in the Bear Tooth Unit and construction and maintenance of ice pads and ice roads. (Date issued: 12/01/2021) | 21-09 [Amended].
SAExploration, Inc | Narwhal Phase II Seismic Survey in the National Petroleum Reserve—Alaska and Kuukpik Corporation lands. (Date issued: 12/03/2021) | 21-10.
* The 2016-2021 ITRs were established by a final rule published at 81 FR 52276, August 5, 2016.

On August 1, 2019, the Service published in the Federal Register a final rule (84 FR 37716) establishing regulations that allow us to authorize the nonlethal, incidental, unintentional take of small numbers of northern sea otters (Enhydra lutris kenyoni) during year-round oil and gas industry exploration, development, production, and transportation activities in Cook Inlet, Alaska. The rule established subpart K in part 18 of title 50 of the CFR and is effective through August 1, 2024. The rule prescribes a process under which we issue LOAs to applicants conducting activities as described under the provisions of the regulations.

Each LOA stipulates conditions or methods that are specific to the activity and location. Holders of the LOAs must use methods and conduct activities in a manner that minimizes to the greatest extent practicable adverse impacts on northern sea otters and their habitat and on the availability of northern sea otters for subsistence purposes. No intentional take or lethal incidental take is authorized under these regulations.

In accordance with section 101(a)(5)(A) of the Marine Mammal Protection Act (MMPA; 16 U.S.C. 1361 et seq.) and our regulations at 50 CFR part 18, subpart K, in 2021, we issued an LOA to the following company in Cook Inlet, Alaska, as shown in table 2.

Table 2—Letter of Authorization Issued for Oil and Gas Development Activities in Cook Inlet, Alaska, in 2021
Company | Project | LOA No.
Hilcorp Alaska | Hilcorp's Lower Cook Inlet Outer Continental Shelf geohazard survey, Lower Cook Inlet exploratory drilling, North Cook Inlet Unit subsea well plug and abandonment activity, and routine maintenance of pipelines and platforms in the Cook Inlet | 21-CI-01.

Authority: We issue this notice under the authority of the MMPA (16 U.S.C. 1361 et seq.).

Peter Fasbender,
Assistant Regional Director/Fisheries and Ecological Services, Alaska Region.

[FR Doc. 2022-11849 Filed 6-1-22; 8:45 am]

BILLING CODE 4333-15-P